DEPARTMENT OF STATE

[Public Notice: 6726]

30-Day Notice of Proposed Information Collection: Form DS-6004, Request To Change End User, End Use and/or Destination of Hardware; OMB Control Number 1405-0173

ACTION: Notice of request for public comment and submission to OMB of proposed collection of information.

SUMMARY: The Department of State has submitted the following information collection request to the Office of Management and Budget (OMB) for approval in accordance with the Paperwork Reduction Act of 1995.

Title of Information Collection: Request to Change End User, End Use and/or Destination or Hardware.

OMB Control Number: 1405-0173.

Type of Request: Extension of currently approved collection.

Originating Office: Bureau of Political Military Affairs, Directorate of Defense Trade Controls, PM/DDTC.

Form Number: DS-6004.

Respondents: Business organizations.

Estimated Number of Respondents: 300 (total).

Estimated Number of Responses: 1,470 (per year).

Average Hours Per Response: 1 hour.

Total Estimated Burden: 1,470 hours (per year).

Frequency: On Occasion.

Obligation to Respond: Mandatory.

DATES: Submit comments to the Office of Management and Budget (OMB) for up to 30 days from August 17, 2009.

ADDRESSES: Direct comments and questions to Katherine Astrich, the Department of State Desk Officer in the Office of Information and Regulatory Affairs at the Office of Management and Budget (OMB), who may be reached at 202-395-4718. You may submit comments by any of the following methods:

E-mail: Kastrich@omb.eop.gov. You must include the DS form number, information collection title, and OMB control number in the subject line of your message.

Mail (paper, disk, or CD-ROM submissions): Office of Information and Regulatory Affairs, Office of Management and Budget, 725 17th Street, NW., Washington, DC 20503. Fax: 202-395-5806.

FOR FURTHER INFORMATION CONTACT: You may obtain copies of the proposed information collection and supporting documents from Mary F. Sweeney, PM/DDTC, SA-1, 12th Floor, Directorate of Defense Trade Controls, Bureau of Political Military Affairs, U.S. Department of State, Washington, DC 20522-0112, who may be reached on (202) 663-2865 or at sweeneymf@state.gov.

SUPPLEMENTARY INFORMATION: We are soliciting public comments to permit the Department to:

Evaluate whether the proposed collection of information is necessary to properly perform our functions.

Evaluate the accuracy of our estimate of the burden of the proposed collection, including the validity of the methodology and assumptions used.

Enhance the quality, utility, and clarity of the information to be collected.

Minimize the reporting burden on those who are to respond, including the use of Automated collection techniques or other forms of technology.

Abstract of proposed collection: Form DS-6004 is used to request approval prior to any sale, transfer, transshipment, or disposal of classified or unclassified defense articles, whether permanent or temporary to any end user, end use, or destination other than as stated on the license or other approval or on a Shipper's Export Declaration.

Methodology: This information collection may be sent to the Directorate of Defense Controls via mail.

Dated: August 10, 2009.
Robert S. Kovac,
Acting Deputy Assistant, Secretary for Defense Trade, Bureau of Political-Military Affairs, Department of State.

[FR Doc. E9-19725 Filed 8-14-09; 8:45 am]

BILLING CODE 4710-25-P